DEPARTMENT OF DEFENSE

Office of the Secretary

[Docket No. DOD-2007-OS-0129]

Proposed Collection; Comment Request

AGENCY: Office of the Under Secretary of Defense (Personnel and Readiness), DoD.

ACTION: Notice.

In compliance with section 3506(c)(2)(A) of the Paperwork Reduction Act of 1995, the Office of the Under Secretary of Defense (Personnel and Readiness) announces the following proposed extension of a public information collection and seeks public comment on the provisions thereof. Comments are invited on: (a) Whether the proposed collection of information is necessary for the proper performance of the functions of the agency, including whether the information shall have practical utility; (b) the accuracy of the agency's estimate of burden of the proposed information collection; (c) ways to enhance the quality, utility, and clarity of the information to be collected; and (d) ways to minimize the burden of the information collection on respondents, including through the use of automated collection techniques or other forms of information technology.

DATES: Consideration will be given to all comments received by January 28, 2008.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Department of Defense Education Activity, Attn: Dr. Sandra D. Embler, 4040 North Fairfax Drive, Arlington, VA 22203-1635, or call at (703) 588-3175.

Title and OMB Control Number: Department of Defense Educational Activity (DoDEA) Customer Satisfaction Survey for Sponsors and Students, OMB Control Number 0704-0421.

Needs and Uses: The Department of Defense Education Activity (DoDEA) Customer Satisfaction Survey for Sponsors and Students is a tool used to measure the satisfaction level of sponsors and students with the programs and services provided by DoDEA. This collection is necessary to meet the Government Performance and Results Act of 1993, Public Law 103-62; 107 Stat. 285, that requires agencies to have strategic plans and to consult with affected persons. A major purpose of the regulation is to improve Federal program effectiveness and public accountability by promoting a new focus on results, service quality, and customer satisfaction.

Affected Public: Individuals or households.

Annual Burden Hours: 2,167.

Number of Respondents: 6,500.

Responses per Respondent: 1.

Average Burden per Response: 20 minutes.

Frequency: Biennially.

SUPPLEMENTARY INFORMATION:

Summary of Information Collection

The Department of Defense Education Activity (DoDEA) Customer Satisfaction Survey for Sponsors and Students will be administered to DoDEA students in grades 4-12, and to all parents and/or sponsors of DoDEA students. Participating in the survey is completely voluntary and will be administered through an online, Web-based technology. In order to have comparison between DoDEA parents and parents of students in U.S. public schools, some survey questions from the Phi Delta Kappa/Gallup Poll of the Public's Attitudes Toward Schools will be used. Additional survey questions were developed to address specific issues and needs within DoDEA. The surveys will give parents/sponsors and students an opportunity to comment on their overall levels of satisfaction with DoDEA schools, as well as on specific programmatic issues related to Department of Defense schools, including curriculum, communication, and technology. The surveys will be administered biennially.

The information derived from these surveys will be used to improve planning efforts at all levels throughout DoDEA. Schools, districts, and areas will use the survey results to gain insight into the satisfaction levels of sponsors and students, which is one of many measures used for future planning of programs and services offered to DoDEA's students. The survey results will also be used as an outcome measure to monitor progress on the goals of the DoDEA Community Strategic Plan.

Dated: November 15, 2007.
Patricia L. Toppings,
Alternate OSD Federal Register Liaison Officer, Department of Defense.

[FR Doc. 07-5860 Filed 11-28-07; 8:45 am]

BILLING CODE 5001-06-M